DEPARTMENT OF TRANSPORTATION

Federal Railroad Administration

Petition for Waiver of Compliance

In accordance with Part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

North Carolina Transportation Museum

[Docket Number FRA-2000-8418]

The North Carolina Transportation Museum of Spencer, North Carolina, has petitioned for a temporary waiver of compliance for one locomotive from the requirements of the Locomotive Inspection, 49 CFR 230.23(a), which requires staybolts having caps over their outer ends shall have the caps removed at least every two years and the bolts and sleeves examined for breakage. The museum states that they rotate the operation of steam locomotive number 604 on weekends during summer months in tourist service. Locomotive number 604 last had its staybolt caps removed on March 28, 1999, at which time the bolts and sleeves were inspected. If the waiver is approved the staybolt caps would be removed in 2002 when the locomotive would receive required work to bring it into compliance with the recently published, November 17, 1999, Inspection and Maintenance Standards for Steam Locomotives. The museum indicates that if the waiver is granted that the locomotive would operate an additional thirty five days over the next year.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2000-8418) and must be submitted in triplicate to the Docket Clerk, DOT Central Docket Management Facility, Room Pl-401, Washington, DC. 20590-0001. Communications received within 45 days of the date of this notice will be considered by FRA before final action is taken. Comments received after that date will be considered as far as practicable. All written communications concerning these proceedings are available for examination during regular business hours (9:00 a.m.-5:00 p.m.) at DOT Central Docket Management Facility, Room Pl-401 (Plaza Level), 400 Seventh Street SW., Washington, DC. All documents in the public docket are also available for inspection and copying on the Internet at the docket facility's Web site at http://dms.dot.gov.

Issued in Washington, DC on December 20, 2000.
Grady C. Cothen, Jr.,
Deputy Associate Administrator for Safety Standards and Program Development.

[FR Doc. 00-32880 Filed 12-26-00; 8:45 am]

BILLING CODE 4910-06-P